DEPARTMENT OF HOUSING AND URBAN DEVELOPMENT

[Docket No. PR-4644-N-06]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW, Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to Assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable.unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifforn Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Marsha Pruitt, Department of Agriculture, Room 310B, 300 7th St., SW, Washington, DC 20250; (202) 720-4335; DOT: Mr. Rugene Spruill, Space Management, SVC-140, Transportation Administrative Service Center, Department of Transportation, 400 7th Street, SW, Room 2310, Washington, DC 20590; (202) 366-4246; GSA: Mr. Brian K. Polly, Assistant Commissioner, General Services Administration, Office of Property Disposal, 18th and F Streets, NW, Washington, DC 20405; (202) 501-0386; Interior: Ms. Linda Tribby, Acquisition & Property Management, Department of the Interior, 1849 C Street, NW, MS 5512, Washington, DC 20240; (202) 219-0728; Navy: Mr. Charles C. Cocks, Director, Department of the Navy, Real Estate Policy Division, Naval Facilities Engineering Command, Washington Navy Yard, 1322 Patterson Ave., SE, Suite 1000, Washington, DC 20374-5065; (202) 685-9200; (These are not toll-free numbers).

Dated: February 1, 2001.
John D. Garrity,
Director, Office of Special Needs Assistance Programs.

Title V, Federal Surplus Property Program Federal Register Report for 2/9/01

Suitable/Available Properties

Buildings (by State)

California

Bell Fed. Service Center

5600 Rickenbacker Rd.

Bell Co: Los Angeles CA 90201-6418

Landholding Agency: GSA

Property Number: 54200110003

Status: Underutilized

Comment: 200,000 sq. ft., most recent use—warehouse

GSA Number: CA086122

Maryland

La Plata Housing

Radio Station Rd.

La Plata Co: Charles MD

Landholding Agency: GSA

Property Number: 54200110006

Status: Excess

Comment: Townhouse complex of 20 units, 3-bedroom units—997 sq. ft., 1115 sq. ft., and 1011 sq. ft., needs rehab, presence of asbestos/lead paint

GSA Number: 4-N-MD-601

Massachusetts

Cross Terrace

S. Weymouth Naval Air Station

S. Weymouth Co: MA

Landholding Agency: GSA

Property Number: 54200110004

Status: Excess

Comment: 5 one story, 2 bedroom duplex housing units, needs rehab, off-site use only

GSA Number: 1-U-MA-860

USCG Air Station

Cape Cod Co: Barnstable MA

Landholding Agency: GSA

Property Number: 54200110005

Status: Underutilized

Comment: 60—2 & 3 bedroom housing units, may be difficulty in moving foundation, off-site use only

GSA Number: 1-U-MA-859

Mississippi

Quarters #162

Natchez Trace Pkwy

162 Trace Circle

Ridgeland Co: Madison MS 39157-

Landholding Agency: Interior

Property Number: 61200110001

Status: Excess

Comment: 1121 sq. ft., presence of asbestos, most recent use—residential, off-site use only

Quarters #167

Natchez Trace Pkwy

Rt. 1, Box 46A

Port Gibson Co: Claiborne MS 39150-

Landholding Agency: Interior

Property Number: 61200110002

Status: Excess

Comment: 1414 sq. ft., presence of asbestos, most recent use—residential, off-site use only

Quarters #257

Natchez Trace Pkwy

Star Route Box 14

Carlisle Co: Claiborne MS 39049-

Landholding Agency: Interior

Property Number: 61200110003

Status: Excess

Comment: 1415 sq. ft., presence of asbestos, most recent use—residential, off-site use only

Quarters #182

Natchez Trace Pkwy

Kosciusko Co: Atalla MS 39090-

Landholding Agency: Interior

Property Number: 61200110004

Status: Excess

Comment: 1121 sq. ft., presence of asbestos, most recent use—residential, off-site use only

Quarters #197

Natchez Trace Pkwy

Rt. 1

Mantee Co: Chickasaw MS 39751-

Landholding Agency: Interior

Property Number: 61200110005

Status: Excess

Comment: 1121 sq. ft., presence of asbestos, most recent use—residential, off-site use only

Buildings (by State)

Tennessee

Quarters #169

Natchez Track Pkwy

Meriwether Lewis Rd.

Hohenwald Co: Lewis TN 38462-

Landholding Agency: Interior

Property Number: 61200110006

Status: Excess

Comment: 1121 sq. ft., presence of asbestos, most recent use—residential, off-site use only

Virginia

Bldgs. SP-79/80/81/79AQ

Naval Station

Norfolk Co: VA 23511-

Landholding Agency: Navy

Property Number: 77200110034

Status: Excess

Comment: Most recent use—residential & detachable garage, high maintenance, presence of asbestos, off-site use only

West Virginia

Beckley Fed. Bldg.

400 Neville Street

Beckley Co: Raleigh WV 25801-

Landholding Agency: GSA

Property Number: 54200110002

Status: Excess

Comment: 2-story, good condition, presence of asbestos—pipes GSA Number: 4-G-WV-538

Land (by State)

Missouri

Improved Land

St. Louis Army Ammunition

Plant

4800 Goodfellow Blvd.

St. Louis Co: MO 63120-1798

Landholding Agency: GSA

Property Number: 54200110007

Status: Surplus

Comment: 21 acres w/2 large bldgs. and numerous small bldgs. situated on 13 acres, 5 acres = parking lot and streets, presence of asbestos/lead paint, clean-up required to state regulator standards

GSA Number: 000000

Unsuitable Properties

Buildings (by State)

Alaska

Bldg. 23

USCG Integrated Support

Command

Kodak Co: Kodiak Island AK 99619-

Landholding Agency: DOT

Property Number: 87200110009

Status: Excess

Reason: Extensive deterioration

Bldg. 25

USCG Integrated Support

Command

Kodiak Co: Kodiak Island AK 99619-

Landholding Agency: DOT

Property Number: 87200110010

Status: Excess

Reason: Extensive deterioration

Bldg. 53

USCG Integrated Support

Command

Kodiak Co: Kodiak Island AK 99619-

Landholding Agency: DOT

Property Number: 87200110011

Status: Excess

Reason: Within 2000 ft. of flammable or explosive material; Secured Area; Extensive deterioration

Arizona

Old Ranger House

Admin Site

Alpine Co: Apache AZ 85920-

Landholding Agency: Agriculture

Property Number: 15200110001

Status: Unutilized

Reason: Extensive deterioration

District of Columbia

Bldg. A-092

Naval Station Anacostia

Washington Co: DC 20374-

Landholding Agency: Navy

Property Number: 77200110046

Status: Underutilized

Reason: Secured Area

Florida

Bldg. 183

Naval Air Station

Pensacola Co: Escambia FL 32508-

Landholding Agency: Navy

Property Number: 77200110019

Status: Unutilized

Reason: Secured Area

Bldg. 494

Naval Air Station

Pensacola Co: Escambia FL 32508-

Landholding Agency: Navy

Property Number: 77200110020

Status: Unutilized

Reason: Secured Area

Bldg. 647

Naval Air Station

Pensacola Co: Escambia FL 32508-

Landholding Agency: Navy

Property Number 77200110021

Status: Unutilized

Reason: Secured Area

Bldg. 649B

Naval Air Station

Pensacola Co: Escambia FL 32508-

Landholding Agency: Navy

Property Number: 77200110022

Status: Unutilized

Reason: Secured Area

Bldg. 679

Naval Air Station

Pensacola Co: Escambia FL 32508-

Landholding Agency: Navy

Property Number: 77200110023

Status: Unutilized

Reason: Secured Area

Bldg. 692

Naval Air Station

Pensacola Co: Escambia FL 32508-

Landholding Agency: Navy

Property Number: 77200110024

Status: Unutilized

Reason: Secured Area

Bldg. 755

Naval Air Station

Pensacola Co: Escambia FL 32508-

Landholding Agency: Navy

Property Number: 77200110025

Status: Unutilized

Reason: Secured Area

Bldg. 785

Naval Air Station

Pensacola Co: Escambia FL 32508-

Landholding Agency: Navy

Property Number: 77200110026

Status: Unutilized

Reason: Secured Area

Bldg. 1704

Naval Air Station

Pensacola Co: Escambia FL 32508-

Landholding Agency: Navy

Property Number: 77200110027

Status: Unutilized

Reason: Secured Area

Bldg. 3448

Naval Air Station

Pensacola Co: Escambia FL 32508-

Landholding Agency: Navy

Property Number: 77200110028

Status: Unutilized

Reason: Secured Area

Bldg. 3579

Naval Air Station

Pensacola Co: Escambia FL 32508-

Landholding Agency: Navy

Property Number: 77200110029

Status: Unutilized

Reason: Secured Area

Bldg. 3673

Naval Air Station

Pensacola Co: Escambia FL 32508-

Landholding Agency: Navy

Property Number: 77200110030

Status: Unutilized

Reason: Secured Area

Bldg. 3823

Naval Air Station

Pensacola Co: Escambia FL 32508-

Landholding Agency: Navy

Property Number: 77200110031

Status: Unutilized

Reason: Secured Area

Bldg. 3824

Naval Air Station

Pensacola Co: Escambia FL 32508-

Landholding Agency: Navy

Property Number: 77200110032

Status: Unutilized

Reason: Secured Area

Oregon

Bldg.

366 E. Hurlburt

Hermiston Co: Umatilla OR 97838-

Landholding Agency: Interior

Property Number: 61200110007

Status: Unutilized

Reason: Extensive deterioration

South Carolina

36 Bldgs.

Naval Weapons Station

Charleston

Goose Creek Co: Berkeley SC 29445-

Location: 34, 47, 63, 67, 203, 276, 297, 306, 334, 350, 370, 383, 435, 725, 798, 806, 823, 844, 905, 906, 907, 912, 915, 919, 920, 923, 924, 948, 954, 992, 2333, 2334, 3232, 3741, 3761, 454

Landholding Agency: Navy

Property Number: 77200110033

Status: Excess

Reason: Within 200 ft. of flammable or explosive material; Secured Area

Texas

Facility 119

Naval Air Station

Corpus Christi Co: Nueces TX 78419-5021

Landholding Agency: Navy

Property Number: 77200110047

Status: Excess

Reasons: Within airport runway clear zone; Secured Area; Extensive deterioration

Virginia

Bldg. 4078, PR#201819

Naval Amphibious Base

Virginia Beach Co: VA 23455-

Landholding Agency: Navy

Property Number: 77200110035

Status: Unutilized

Reason: Extensive deterioration

Foot Bridge

Naval Medical Center

Portsmouth Co: VA 23708-2197

Landholding Agency: Navy

Property Number: 77200110036

Status: Unutilized

Reasons: Floodway; Secured Area

Land (by State)

California

Parcel 3

Naval Base

Port Hueneme Co: Ventura CA 93043-4300

Landholding Agency: Navy

Property Number: 77200110037

Status: Underutilized

Reason: Secured Area

Parcel 4

Naval Base

Port Hueneme Co: Ventura CA 93043-4300

Landholding Agency: Navy

Property Number: 77200110038

Status: Underutilized

Reason: Secured Area

Parcel 7

Naval Base

Port Hueneme Co: Ventura CA 93043-4300

Landholding Agency: Navy

Property Number: 77200110039

Status: Underutilized

Reason: Secured Area

Parcel 8

Naval Base

Port Hueneme Co: Ventura CA 93043-4300

Landholding Agency: Navy

Property Number: 77200110040

Status: Underutilized

Reason: Secured Area

Parcel 10

Naval Base

Port Hueneme Co: Ventura CA 93043-4300

Landholding Agency: Navy

Property Number: 77200110041

Status: Underutilized

Reason: Secured Area

Parcel 11

Naval Base

Port Hueneme Co: Ventura CA 93043-4300

Landholding Agency: Navy

Property Number: 77200110042

Status: Underutilized

Reason: Secured Area

Parcel 12

Naval Base

Port Hueneme Co: Ventura CA 93043-4300

Landholding Agency: Navy

Property Number: 77200110043

Status: Underutilized

Reason: Secured Area

Parcel 13

Naval Base

Port Hueneme Co: Ventura CA 93043-4300

Landholding Agency: Navy

Property Number: 77200110044

Status: Underutilized

Reason: Secured Area

Parcel 14

Naval Base

Port Hueneme Co: Ventura CA 93043-4300

Landholding Agency: Navy

Property Number: 77200110045

Status: Underutilized

Reason: Secured Area

[FR Doc. 01-3235 Filed 2-8-01; 8:45 am]

BILLING CODE 4210-29-M